Executive Order 13311 of July 29, 2003

Homeland Security Information Sharing

By the authority vested in me by the Constitution and the laws of the United States, including sections 892 and 893 of the Homeland Security Act of 2002 (the “Act”) (6 U.S.C. 482 and 483) and section 301 of title 3, United States Code, it is hereby ordered as follows:

Section 1. Assignment of Functions. (a) The functions of the President under section 892 of the Act are assigned to the Secretary of Homeland Security (the “Secretary”), except the functions of the President under subsections 892(a)(2) and 892(b)(7).

(b) Subject to section 2(b) of this order, the function of the President under section 893 of the Act is assigned to the Secretary.

(c) Procedures issued by the Secretary in the performance of the function of the President under section 892(a)(1) of the Act shall apply to all agencies of the Federal Government. Such procedures shall specify that the President may make, or may authorize another officer of the United States to make, exceptions to the procedures.

(d) The function of the President under section 892(b)(7) of the Act is delegated to the Attorney General and the Director of Central Intelligence, to be exercised jointly.

(e) In performing the functions assigned to the Secretary by subsection (a) of this section, the Secretary shall coordinate with the Secretary of State, the Secretary of Defense, the Attorney General, the Secretary of Energy, the Director of the Office of Management and Budget, the Director of Central Intelligence, the Archivist of the United States, and as the Secretary deems appropriate, other officers of the United States.

(f) A determination, under the procedures issued by the Secretary in the performance of the function of the President under section 892(a)(1) of the Act, as to whether, or to what extent, an individual who falls within the category of “State and local personnel” as defined in sections 892(f)(3) and (f)(4) of the Act shall have access to information classified pursuant to Executive Order 12958 of April 17, 1995, as amended, is a discretionary determination and shall be conclusive and not subject to review or appeal.

Sec. 2. Rules of Construction. Nothing in this order shall be construed to impair or otherwise affect:

(a) the authority of the Director of Central Intelligence under section 103(c)(7) of the National Security Act of 1947, as amended (50 U.S.C. 403-3(c)(7)), to protect intelligence sources and methods from unauthorized disclosure;

(b) the functions of the Director of the Office of Management and Budget relating to budget, administrative, or legislative proposals; or

(c) the provisions of Executive Orders 12958 of April 17, 1995, as amended, and 12968 of August 2, 1995, as amended.

Sec. 3. General Provision. This order is intended only to improve the internal management of the Federal Government and is not intended to, and does not, create any right or benefit, substantive or procedural, enforceable at law or in equity, against the United States, its departments, agencies, or other entities, its officers or employees, or any other person.

B

THE WHITE HOUSE,

July 29, 2003.

[FR Doc. 03-19675

Filed 7-30-03; 9:18 am]

Billing code 3195-01-P